DEPARTMENT OF AGRICULTURE

Forest Service

Intergovernmental Advisory Committee Meeting, Northwest Forest Plan

AGENCY: Forest Service, USDA.

ACTION: Notice of meeting.

SUMMARY: The Intergovernmental Advisory Committee (IAC), Northwest Forest Plan (NWFP), has scheduled a meeting on March 20, 2007 from 8 a.m. to 12 noon. at the DoubleTree Hotel & Executive Meeting Center, 1000 NE Multnomah, Portland, Oregon 97232, (503) 281-6111, in the Multnomah Conference room. We will provide participants with updates on several ongoing projects of interest including monitoring, agency plan revisions, research activities, etc.

The meeting is open to the public and fully accessible for people with disabilities. A 10-minute time slot is reserved for public comments at 8:10 a.m. Interpreters are available upon request at least 10 days prior to the meeting. Written comments may be submitted for the meeting record. Interested persons are encouraged to attend.

FOR FURTHER INFORMATION CONTACT: Questions regarding this meeting may be directed to Kath Collier, Management Analyst, Regional Ecosystem Office, 333 SW. First Avenue, P.O. Box 3623, Portland, OR 97208 (telephone: 503-808-2165).

Dated: February 20, 2007.
Anne Badgley,
Designated Federal Official.

[FR Doc. E7-3564 Filed 2-28-07; 8:45 am]

BILLING CODE 3410-11-P